FEDERAL COMMUNICATIONS COMMISSION

Sunshine Act Meeting; FCC to Hold Open Commission Meeting Tuesday, July 31, 2007

July 24, 2007.

The Federal Communications Commission will hold an Open Meeting on the subjects listed below on Tuesday, July 31, 2007, which is scheduled to commence at 10 a.m. in Room TW-C305, at 445 12th Street, SW., Washington, DC.

Item No. | Bureau | Subject
1 | Wireless Telecommunications and Public Safety & Homeland Security | Title: Service Rules for the 698-746, 747-762 and 777-792 MHz Bands (WT Docket No. 06-150); Revision of Commission's Rules to Ensure Compatibility with Enhanced 911 Emergency Calling Systems (CC Docket No. 94-102); Section 68.4(a) of the Commission's Rules Governing Hearing Aid-Compatible Telephones (WT Docket No. 01-309); Biennial Regulatory Review—Amendment of Parts 1, 22, 24, 27, and 90 to Streamline and Harmonize Various Rules Affecting Wireless Radio Services (WT Docket No. 03-264); Former Nextel Communications, Inc., Upper 700 MHz Guard Band Licenses and Revisions to Part 27 of the Commission's Rules (WT Docket No. 06-169); Implementing a Nationwide, Broadband, Interoperable Public Safety Network in the 700 MHz Bank (PS Docket No. 06-229); Development of Operational, Technical and Spectrum Requirements for Meeting Federal, State and Local Public Safety Communications Requirements Through the Year 2010 (WT Docket No. 96-86).
|  | Summary: The Commission will consider a Second Report and Order concerning rules governing wireless licenses in the 698-806 MHz Band, which is spectrum currently occupied by television broadcasters in TV Channels 52-69 and is being made available for wireless services, including public safety and commercial services.
2 | Wireless Telecommunications | Title: Reexamination of Roaming Obligations of Commercial Mobile Radio Service Providers (WT Docket No. 05-265); Automatic and Manual Roaming Obligations Pertaining to Commercial Mobile Radio Services (WT Docket No. 00-193).
|  | Summary: The Commission will consider a Report and Order addressing Roaming obligations of Commercial Mobile Radio Service providers.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Marlene H. Dortch,
Secretary.

[FR Doc. 07-3704 Filed 7-25-07; 1:31 pm]

BILLING CODE 0712-01-M